SECURITIES AND EXCHANCE COMMISSION

[Release No. 34-46167; File No. SR-PHLX-2002-09]

Self-Regulatory Organizations; Philadelphia Stock Exchange, Inc.; Order Granting Approval to Proposed Rule Change to Amend Rules for the Administration of Order, Decorum, Health, Safety, and Welfare on the Exchange

July 8, 2002.

On February 1, 2002, the Philadelphia Stock Exchange, Inc. (“Phlx” or “Exchange”) filed with the Securities and Exchange Commission (“Commission”), pursuant to Section 19(b)(1) of the Securities Exchange Act of 1934 (“Act”) ¹ and Rule 19b-4 thereunder,² a proposed rule change to amend certain Rules for the administration of order, decorum, health, safety, and welfare on the Exchange. The proposal would add procedures to govern actions by Floor Officials and Exchange staff to summarily remove a member from the floor for breaches of regulations that relate to the administration of order, decorum, health, safety and welfare on the Exchange, increase fine amounts for order and decorum violations as specified in proposed Regulation 4, reorganize current Regulation 4 for clarity, and amend Article VIII, Section 8-1 and Article X, Section 10-11 of the Exchange's By-Laws to eliminate inconsistencies with Exchange rules.

¹ 15 U.S.C. 78s(b)(1).

² 17 CFR 240.19b-4.

The Phlx amended the proposal on May 7, 2002. The proposed rule change, as amended, was published for comment in the Federal Register on May 16, 2002.³ The Commission received no comments on the proposal.

³ See Securities Exchange Act Release No. 45905 (May 10, 2002), 67 FR 34978.

The Commission finds that the proposed rule change is consistent with the requirements of the Act and the rules and regulations thereunder applicable to a national securities exchange ⁴ and, in particular, the requirements of Section 6 of the Act ⁵ and the rules and regulations thereunder. The Commission finds specifically that the proposed rule change is consistent with Section 6(b)(5) of the Act ⁶ because it will help prevent fraudulent and manipulative acts and practices, as well as promote just and equitable principles of trade. The Commission finds the proposal is consistent with Section 6(b)(6) of the Act,⁷ because the proposal provides a mechanism for the appropriate discipline for violations of certain rules and regulations.

⁴ In approving this proposed rule change, the Commission has considered the proposed rule's impact on efficiency, competition, and capital formation. 15 U.S.C. 78c(f).

⁵ 15 U.S.C. 78f.

⁶ 15 U.S.C. 78f(b)(5).

⁷ 15 U.S.C. 78f(b)(6).

In addition, the Commission finds the proposal is consistent with Section 6(b)(7) of the Act ⁸ because the proposal provides a fair procedure for the disciplining of members and persons associated with members.

⁸ 15 U.S.C. 78f(b)(7).

It is therefore ordered, pursuant to Section 19(b)(2) of the Act ⁹, that the proposed rule change (SR-PHLX-2002-09), as amended, be, and it hereby is, approved.

⁹ 15 U.S.C. 78s(b)(2).

For the Commission, by the Division of Market Regulation, pursuant to delegated authority.¹⁰
¹⁰ 17 CFR 200.30-3(a)(12).
Margaret H. McFarland,
Deputy Secretary.

[FR Doc. 02-17680 Filed 7-12-02; 8:45 am]

BILLING CODE 8010-01-P